DEPARTMENT OF EDUCATION

[Docket ID: ED-2012-OVAE-0014]

Request for Information on Strategies for Improving Outcomes for Disconnected Youth

AGENCY: Office of Vocational and Adult Education, Department of Education.

ACTION: Request for information.

SUMMARY: The President's FY 2013 Budget (FY 2013 budget) included a request for authority to implement “Performance Partnership Pilots” that would improve outcomes for disconnected youth. In order to inform the Administration's development of that initiative, this request for information (RFI) seeks recommendations on effective approaches for improving outcomes for disconnected youth by working across Federal, State, and local community programs and systems that provide services to disconnected youth. The input we receive will inform the deliberations of the Federal Interagency Forum on Disconnected Youth about the best use of the authority requested in the FY 2013 budget for the Performance Partnership Pilots and on other actions the Administration might take to improve outcomes for disconnected youth. In addition, responses may also be used to identify opportunities for flexibility within existing authorities.

DATES: Responses must be received by July 5, 2012.

ADDRESSES: Submit your comments through the Federal eRulemaking Portal or via U.S. mail, commercial delivery, or hand delivery. We will not accept comments by fax or by email. To ensure that we do not receive duplicate copies, please submit your comments only one time. In addition, please include the Docket ID and the term “Performance Partnership Response” at the top of your comments.

• Federal eRulemaking Portal: Go to www.regulations.gov to submit your comments electronically. Information on using Regulations.gov, including instructions for accessing agency documents, submitting comments, and viewing the docket, is available on the site under “How to Use This Site.”

• U.S. Mail, Commercial Delivery, or Hand Delivery: If you mail or deliver your comments, address them to Annie Blackledge, Attention: Improving Outcomes for Disconnected Youth RFI, U.S. Department of Education, 400 Maryland Avenue SW., room 11089, Potomac Center Plaza, Washington, DC 20202-7241.

• Privacy Note: The Department's policy for comments received from members of the public (including comments submitted by mail, commercial delivery, or hand delivery) is to make these submissions available for public viewing in their entirety on the Federal eRulemaking Portal at www.regulations.gov. Therefore, commenters should be careful to include in their comments only information that they wish to make publicly available on the Internet.

FOR FURTHER INFORMATION CONTACT: Meg Massey by email: mmassey@omb.eop.gov; or Annie Blackledge by email: Annie.Blackledge@ed.gov.

If you use a telecommunications device for the deaf (TDD) or a text telephone (TTY), call the Federal Relay Service (FRS), toll free, at 1-800-877-8339.

SUPPLEMENTARY INFORMATION:

Purpose

This request for information offers States, tribal governments, local entities, community-based and other non-profit organizations, private-sector partners, philanthropic organizations, faith-based organizations, researchers, and other interested individuals and entities the opportunity to provide recommendations on effective approaches for improving outcomes for disconnected youth by working across programs and systems that provide relevant services to them. For the purposes of this RFI, “to improve outcomes for disconnected youth” means to increase the rate at which young people ages 14 to 24 who are homeless, in foster care, involved in the juvenile justice system, or are neither employed nor enrolled in an educational institution achieve success in meeting educational, employment, and other key lifelong development goals.

The public input provided in response to this notice will inform the deliberations of the Interagency Forum on Disconnected Youth about determining the best use of the authority requested in the President's FY 2013 budget for the Performance Partnership Pilots.¹ If legislation provides this authority, these pilots would create innovative and comprehensive reengagement strategies that encourage additional academic and non-academic supports and support multiple pathways to prepare disconnected youth for college and career success. Responses to the RFI will also inform how the Department of Education (ED), the Department of Health and Human Services (HHS), and the Department of Labor (DOL) could deploy other resources for disconnected youth that have been requested in the FY 2013 budget. In addition, the Department of Justice (DOJ) and the Department of Housing and Urban Development (HUD) are interested in how their programs serving disconnected youth could contribute to Performance Partnership Pilots and other efforts to improve outcomes for this population.

¹ The Budget for Fiscal Year 2013—Section 737 of the General Provisions Government-wide, Performance Partnerships Pilots (see www.whitehouse.gov/sites/default/files/omb/budget/fy2013/assets/ggp.pdf).

Background

Several reports indicate that there are millions of disconnected young people in the U.S. who are out of school, have not attained a high school diploma, and are out of work.² The consequences of being disconnected are serious for both the individual and society, as these young people not only fail to meet their personal potential, but also cost the Nation billions of dollars every year in lost earnings, crime/incarceration, and expenditures on social and other services.³

² Disconnected Youth: A Look at 16- to 24-Year Olds Who Are Not Working or In School, Congressional Research Service, Adrienne L. Fernandes, Thomas Gabe April 22, 2009 www.fas.org/sgp/crs/misc/R40535.pdf.

³ www.serve.gov/new-images/council/pdf/econ_value_opportunity_youth.pdf.

Youth who are living in poverty, low-income households, or foster care, or who are homeless or transitioning back to the community from incarceration, are disproportionately at risk of poor educational achievement, unemployment, or underemployment. Disconnected youth are not a homogenous group. Disconnected youth struggle with a range of barriers to positive education, employment, and other life-goal outcomes including, but not limited to single parenthood, lack of adequate housing, lack of secondary education, lack of job-skills training, physical or mental health challenges, substance abuse, and learning disabilities. Addressing the needs of these disconnected youth is critical to America's economic future.

The Administration's discussions with States and local entities following the February 28, 2011, release of the presidential memorandum on administrative flexibility, lower costs, and better results for State, local, and tribal governments ⁴ suggests these young people might not be receiving the full benefits of the Federal, State, and local community programs, services, and resources available. The Administration's discussions with States and local entities focused on five overarching challenges to the systems serving this population:

⁴ www.whitehouse.gov/the-press-office/2011/02/28/presidential-memorandum-administrative-flexibility.

• Limited evidence about effective models and strategies that support positive outcomes;

• Lack of knowledge about the evidence that exists;

• A relative lack of attention to this population at the Federal, State, and local levels;

• Lack of coordination in addressing this population's needs; and,

• The need for more comprehensive approaches that meet the multi-faceted needs of this population.

The President's FY 2013 budget proposes a Government-wide authority to establish up to 13 Performance Partnership Pilots to improve outcomes for disconnected youth involving up to $130 million in existing discretionary Federal resources.⁵ The proposed authority would enable States and local entities to seek Federal approval to blend funds from multiple funding sources and obtain waivers, such as for program design, performance, and other requirements, that enable more effective uses of funding from programs serving disconnected youth. This proposal responds to requests from States and local entities for greater flexibility in managing resources provided by multiple Federal programs.⁶ The pilot would allow flexibility if communities can demonstrate how they will achieve better results for the high-need disconnected youth population. A State or local community could not propose to achieve its goals by reducing services to youth, particularly those who have multiple barriers to employment and education and are consequently the most difficult to serve.

⁵ See section 737 (page 14) of the Government-wide General Provisions in the President's FY 2013 budget appendix: www.whitehouse.gov/sites/default/files/omb/budget/fy2013/assets/ggp.pdf. The Performance Partnerships provision also includes authority for pilots in neighborhood revitalization, which is not the subject of this RFI.

⁶ These Performance Partnership Pilots would involve discretionary Federal resources only—not mandatory funding for entitlement programs, such as Medicaid.

The FY 2013 budget does not request dedicated funding for Performance Partnership Pilots as they are designed to facilitate flexibility in use of existing program funds. However, outside of the Performance Partnerships authority, the Budget proposes program authority for new approaches to streamlining and improving delivery systems to provide better services to assist disconnected youth, including $5 million at ED, $5 million at HHS, and a $10 million set-aside within the DOL's Workforce Innovation Fund. These funds, if approved by Congress, could potentially be used to enhance and support the State and local community activities undertaken in a Performance Partnership Pilot, such as activities that provide better information and tools to enable communities to direct their resources to strategies that work and to measure and evaluate successful practices.

To further develop ideas on how the Performance Partnerships authority and the FY 2013 funding request for disconnected youth could support innovative approaches that improve service delivery, the Office of Management and Budget (OMB), ED, HHS, DOL, DOJ, and HUD have established an Interagency Forum on Disconnected Youth to:

• Align evidence standards across Federal agencies and programs;

• Disseminate to policymakers and practitioners tools for measuring and evaluating outcomes for disconnected youth served by multiple systems;

• Share best practices for effectively coordinating multiple systems and programs serving disconnected youth at the Federal, State, and local levels;

• Solicit ideas from a broad array of stakeholders on strategies for improving outcomes for disconnected youth, including on how to facilitate comprehensive, multi-systems approaches and on how to use existing resources more effectively;

• Assess the potential for the development of public-private partnerships through which foundations and other private-sector partners could support promising pilot projects and focus attention on the disconnected youth population; and

• Work with States and local entities to align State and Federal rules and regulations in order to support implementation of the pilot projects and better outcomes for disconnected youth.

The work of the Interagency Forum on Disconnected Youth will build on existing work done by the White House Council on Community Solutions ⁷ during 2011 and 2012 in order to identify effective collaborations and support educators and employers in reaching out to disconnected youth. It will also build on the work of the longstanding Interagency Working Group on Youth Programs ⁸ and various related initiatives.

⁷ www.serve.gov/council_home.asp.

⁸ http://findyouthinfo.gov/.

Request for Information

Through this RFI, the Interagency Forum on Disconnected Youth and participating Federal agencies are soliciting ideas and information from a broad array of stakeholders on strategies for improving outcomes for disconnected youth, including on how to facilitate comprehensive, multi-system approaches and on how to use existing resources in more coordinated and comprehensive ways. Responses to this RFI will inform the work of the Interagency Forum on Disconnected Youth on the design, logistics, and feasibility of Performance Partnership Pilots.

This RFI is for information and planning purposes only and should not be construed as a solicitation or as an obligation on the part of the Interagency Forum on Disconnected Youth or participating Federal agencies.

We ask respondents to address the following questions, where possible, in the context of the discussion in this document. You do not need to address every question and should focus on those where you have relevant expertise. You may also address the questions in the context of a detailed pilot proposal outlining how a State, local, or tribal government could use the Performance Partnership authority to implement a comprehensive strategy for achieving better outcomes for disconnected youth.

To the extent possible, please clearly indicate which question(s) you address in your response.

Key Questions:

1. What programs and strategies at the State or local level have shown great promise or have been proven to improve educational, employment, or other key outcomes for disconnected youth?

2. How can we better align resources and administrative, regulatory, and statutory requirements to allow for more effective use of existing resources serving disconnected youth and stronger partnerships across levels of government and the private and non-profit sectors?

3. What key outcomes or indicators for individuals and communities are most important for measuring both short- and long-term progress for disconnected youth?

Detailed Questions:

I. Effective or Promising Practices and Strategies

1. What Federal, State, and local programs or community collaborative efforts have improved outcomes for disconnected youth? What is the objective evidence of their success (e.g., evidence from rigorous evaluations using, for instance, random assignment and regression discontinuity design)?

2. What program designs have great promise of improving educational, employment, or other key outcomes for disconnected youth? What is the best evidence to support these program designs (e.g., correlational or longitudinal outcomes analyses)?

3. What discrete interventions, strategies, or practices would need to be included in pilot designs or innovative programs to increase the likelihood of their success, particularly untested designs?

4. What are the best ways to involve youth in planning and implementation in order to help ensure that projects will be effective in meeting their needs?

II. Public and Private Partnerships

1. Which State, local, non-profit, and business partners have been involved in the successful initiative(s) addressing the needs of disconnected youth that you may have described in response to one or more of the questions in this RFI? Which partners should be involved in the future?

2. What role did or what role could philanthropic organizations play in supporting these types of initiatives you may have described in response to one or more of the questions in this RFI?

3. How were the partnerships involved in those initiatives structured (e.g., governance models, provision of services, shared funding, collaborative professional development)?

4. Which Federal programs should be involved in performance partnership pilots for disconnected youth?

5. What has been your experience with other Federal initiatives that address issues related to disconnected youth by facilitating comprehensive, multi-system approaches and using existing resources in more coordinated and comprehensive ways, such as Promise Neighborhoods and Choice Neighborhoods within the Neighborhood Revitalization Initiative? ⁹

⁹ www.whitehouse.gov/administration/eop/oua/initiatives/neighborhood-revitalization.

6. Do you see an opportunity to use the Pay for Success¹⁰ model which is currently being pursued under existing authority by the Departments of Labor and Justice, but which could potentially be expanded to other areas such as programs serving disconnected youth?

¹⁰ www.whitehouse.gov/blog/2012/01/24/pay-success-new-results-oriented-federal-commitment-underserved-americans/.

III. Outcomes, Data, and Evaluation Design

1. What are the key outcomes that pilots should measure, and what indicators should be used to track intermediate and long-term success for youth?

2. What existing data collection mechanisms can be harnessed to track indicators, outcomes, and participant characteristics?

3. What are examples of frameworks and protocols for sharing data efficiently across programs while meeting privacy and confidentiality requirements? What should be the specifications for additional frameworks or protocols for effective sharing of information?

4. What are the best examples of communities and programs using data to track progress, inform course corrections, and evaluate program effectiveness?

5. What evaluation designs should be used to demonstrate improved outcomes or improved cost-effectiveness of Performance Partnership Pilots?

6. How do the Federal Government, States, and local entities ensure that the flexibility provided through the pilots does not have any adverse effect on the most vulnerable populations?

IV. Barriers

1. What are the legislative, regulatory, or other barriers that impede a community's ability to implement the most cost-effective strategies to assist disconnected youth?

2. Are the barriers created at the Federal, State, or local level?

3. Could the barriers be overcome through administrative action?

4. Would overcoming the barriers require changes in Federal or State laws?

V. Alternative Pilot Designs

1. Which of the following design models would best enable effective pilots at the community level?

• Formula Grant Model: Communities would carve out a portion of funds from multiple formula grants serving youth and use the funds for a coherent, focused strategy to improve outcomes for disconnected youth. The community, the State, and Federal agencies would negotiate an agreement that would include a limited set of key outcomes and performance measures, a streamlined set of reporting requirements, and a strong evaluation strategy.

• Competitive Grant Model: The Federal Government would issue a joint solicitation for grant applications that would pool funds from multiple competitive programs for outcome-focused projects.

• Hybrid Model: The Federal Government would use a joint solicitation for grant applications to fund competitive grants for pilots. Competitive preference would be given to applicants proposing to achieve better results by blending their formula funds to support a more effective service strategy.

2. What is the recommended duration of the performance partnership pilot projects for the model or models you selected as effective?

Guidance for Submitting Documents

We ask that each respondent include the name and address of his or her institution or affiliation, and the name, title, mailing and email addresses, and telephone number of a contact person for his or her institution or affiliation, if any.

Rights to Materials Submitted

By submitting material (e.g., descriptions of strategies for improving outcomes for disconnected youth) in response to this RFI, you agree to grant the Administration a worldwide, royalty-free, perpetual, irrevocable, non-exclusive license to use the material, and to post it. Further, you agree that you own, have a valid license, or are otherwise authorized to provide the material to the Administration.

The Administration will not provide any compensation for material submitted in response to this RFI.

Request for Metadata Tags

To make the best use of the information submitted in response to this RFI and to make it easier for interested parties to search, the Administration will include specific words or phrases—also known as “keywords” or metadata “tags”—with the material submitted. Therefore, you are strongly encouraged to use keywords or tags to identify components of the strategies described in your responses. The keywords or tags should be linked to, and accurately reflect substantial components of, the strategies, practices, programs, or other activities described in your submission. To simplify searches of the responses, Appendix A of this RFI provides a list of standard keywords and tags. You are encouraged to select from among these standard keywords and tags to the greatest extent possible. In the event that none of the words or phrases in Appendix A is sufficiently precise for the strategy that is the subject of your response, you may substitute other keywords or tags. Please do not provide more than eight keywords or tags for each strategy.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Authority: 20 U.S.C. 3401 and 3402, and 20 U.S.C. 9253.

Dated: May 30, 2012.
Brenda Dann-Messier,
Assistant Secretary for Vocational and Adult Education.

Appendix A: Standard Keywords and Tags

Population Descriptors

• Disconnected Youth

• Youth

• Disadvantaged Youth

• Out-of-School Youth

• Workforce Investment Act (WIA) Youth

• Youth in Adult Education

• Young Adults

• Vulnerable

• Homeless Youth

• Foster Youth

• Runaway Youth

• Human Trafficking Victims

• Domestic Minor Sex Trafficking Victims

• Dropouts

• At-Risk Youth

• Gang-Involved Youth

• Youth in Single-Parent Households

Service Descriptors

• Youth Development

• Youth Workforce Development

• Youth and Basic Skills

• Basic Skills

• Adult Education

• Workforce Investment Act Youth Services

• Youth Service

• Alternative Settings

• Alternative High School

• Adult High School

• Youth Career Pathways

• Career Pathways

• Trauma Behavioral Health

• Social and Emotional Well-Being

Strategy and Practice Descriptors

• Partnerships

• Outreach

• Alignment

• Transition

• Articulation

• Dual Enrollment

• Wrap-Around

• Support

• Holistic

• Integrated

• Team Teaching

• Collaboration

• Professional Development

• Shared

• Performance-Based Funding

• Pay-for-Success Funding

• Innovation

Evidence Descriptors

• Cohort

• Random Assignment

• Longitudinal

• Evaluation

• Action

• Research

• Impact

• Documentation

• Performance

• Outcomes

• Goal Achievement

• Research-Based

[FR Doc. 2012-13473 Filed 6-1-12; 8:45 am]

BILLING CODE 4000-01-P